DEPARTMENT OF ENERGY

Federal Energy Regulatory Commission

Combined Notice of Filings #1

October 30, 2009.

Take notice that the Commission received the following electric corporate filings:

Docket Numbers: EC10-10-000.

Applicants: AEP Texas Central Company, AEP Texas North Company.

Description: American Electric Power Service Corp submits a request for disclaimer of jurisdiction, or in the alternative application for approvals.

Filed Date: 10/23/2009.

Accession Number: 20091030-0061.

Comment Date: 5 p.m. Eastern Time on Friday, November 13, 2009.

Docket Numbers: EC10-11-000.

Applicants: Cloud County Wind Farm, LLC, Pioneer Prairie Wind Farm I, LLC, Arlington Wind Power Project LLC, Aircraft Services Corporation.

Description: Application for Authorization for Disposition of Jurisdictional Facilities and Acquisition of Securities by a Holding Company and Request for Expedited Action of Arlington Wind Power Project LLC, et al.

Filed Date: 10/29/2009.

Accession Number: 20091029-5097.

Comment Date: 5 p.m. Eastern Time on Thursday, November 19, 2009.

Docket Numbers: EC10-12-000.

Applicants: Ridgeline Energy LLC, Wolverine Creek Goshen Interconnection,, Ridgeline Energy Holdings, Inc., Diamond Generating Corporation, Ridgeline Alternative Energy LLC, Ridgeline Holdings Junior Inc., Goshen Phase II LLC, Goshen Phase II Holdings LLC.

Description: Joint Application for Authorization of Disposition of Facilities under Section 203 of the Federal Power Act and Request for Confidential Treatment, Expedited Consideration and Waivers of Ridgeline Alternative Energy LLC, et al.

Filed Date: 10/29/2009.

Accession Number: 20091029-5099.

Comment Date: 5 p.m. Eastern Time on Thursday, November 19, 2009.

Take notice that the Commission received the following electric rate filings:

Docket Numbers: ER03-198-011.

Applicants: Pacific Gas and Electric Company.

Description: Quarterly Report of Site Control for New Generation Capacity Development.

Filed Date: 10/29/2009.

Accession Number: 20091029-5088.

Comment Date: 5 p.m. Eastern Time on Thursday, November 19, 2009.

Docket Numbers: ER07-1202-003.

Applicants: JD WIND 4, LLC.

Description: JD Wind 4, LLC Notice of Change in Status—Sites for New Generation Capacity Development.

Filed Date: 10/29/2009.

Accession Number: 20091029-5091.

Comment Date: 5 p.m. Eastern Time on Thursday, November 19, 2009.

Docket Numbers: ER07-1246-003; ER09-297-002.

Applicants: Harvest WindFarm, LLC, Michigan Wind 1, LLC.

Description: Notice of Change in Status—Sites for New Generation Capacity Development on behalf of Harvest Windfarm.

Filed Date: 10/29/2009.

Accession Number: 20091029-5093.

Comment Date: 5 p.m. Eastern Time on Thursday, November 19, 2009.

Take notice that the Commission received the following electric reliability filings:

Docket Numbers: RR10-1-000.

Applicants: North American Electric Reliability Corp.

Description: Petition for Approval of Amendments to the Rules of Procedure of the North American Electric Reliability Corporation—New Section 412 and Appendix 4D.

Filed Date: 10/29/2009.

Accession Number: 20091029-5056.

Comment Date: 5 p.m. Eastern Time on Thursday, November 19, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please email FERCOnlineSupport@ferc.gov. or call (866) 208-3676 (toll free). For TTY, call (202) 502-8659.

Nathaniel J. Davis, Sr.,
Deputy Secretary.

[FR Doc. E9-26899 Filed 11-6-09; 8:45 am]

BILLING CODE 6717-01-P